DEPARTMENT OF HEALTH AND HUMAN SERVICES

Centers for Disease Control and Prevention

[30Day-24-04]

Proposed Data Collections Submitted for Public Comment and Recommendations

The Centers for Disease Control and Prevention (CDC) publishes a list of information collection requests under review by the Office of Management and Budget (OMB) in compliance with the Paperwork Reduction Act (44 U.S.C. chapter 35). To request a copy of these requests, call the CDC Reports Clearance Officer at (404) 498-1210. Send written comments to CDC, Desk Officer, Human Resources and Housing Branch, New Executive Office Building, Room 10235, Washington, DC 20503 or by fax to (202) 395-6974. Written comments should be received within 30 days of this notice.

Proposed Project: Childhood Lead Poisoning Prevention Program Quarterly Report (OMB No. 0920-0282)—Extension—National Center for Environmental Health (NCEH), Centers for Disease Control and Prevention (CDC). Lead poisoning is the most common and societally devastating environmental disease of young children in the United States. The adverse health effects of lead on young children can be profound. Severe lead exposure can cause coma, convulsions, and even death. Lower levels of lead, which rarely cause symptoms, can result in decreased intelligence, developmental disabilities, behavioral disturbances, and disorders of blood production. In 1992, the Centers for Disease Control and Prevention (CDC) began the National Childhood Lead Surveillance Program within the National Center for Environmental Health (NCEH). The goals of the childhood lead surveillance program are to: (1) Establish childhood lead surveillance systems at the state and national levels; (2) use surveillance data to estimate the extent of elevated blood-lead levels among children; (3) assess the follow-up of children with elevated blood-lead levels; (4) examine potential sources of lead exposure; and (5) help allocate resources for lead poisoning prevention activities.

The quarterly report is designed to collect blood lead screening and test confirmation data from CDC-funded programs. The quarterly report consists of four data tables requiring the following information: (1) The number of children screened by age and Medicaid enrollment status; (2) the number of children screened and confirmed by blood lead level; (3) the number of children screened by ethnicity; and (4) the number of children screened by race. The estimated annualized burden is 336 hours.

Respondents | Number of respondents | Number of responses per respondent | Average burden per respondent (in hours)
State and Local Grant and Cooperative Agreement Programs | 42 | 4 | 2

Dated: February 6, 2004.
Alvin Hall,
Director, Management Analysis and Services Office, Centers for Disease Control and Prevention.

[FR Doc. 04-3199 Filed 2-12-04; 8:45 am]

BILLING CODE 4163-18-P